DEPARTMENT OF THE INTERIOR

Bureau of Land Management

[ES-960-1910-BJ-4489] ES-51270, Group 35, Missouri

Notice of Filing of Plat of Survey; Missouri

The plat of the dependent resurvey of a portion of the township boundaries and portions of the subdivisional lines and the survey of the Lock and Dam No. 26 acquisition boundary, in Townships 48 and 49 North, Range 5 East, of the 5th Principal Meridian, Missouri, will be officially filed in Eastern States, Springfield, Virginia at 7:30 a.m., on January 8, 2002.

The survey was requested by the U.S. Army Corps of Engineers.

All inquiries or protests concerning the technical aspects of the survey must be sent to the Chief Cadastral Surveyor, Eastern States, Bureau of Land Management, 7450 Boston Boulevard, Springfield, Virginia 22153, prior to 7:30 a.m., January 8, 2002.

Copies of the plat will be made available upon request and prepayment of the appropriate fee.

Dated: November 15, 2001.
Corwyn J. Rodine,
Chief Cadastral Surveyor.

[FR Doc. 01-30228 Filed 12-5-01; 8:45 am]

BILLING CODE 4310-GJ-P